ENVIRONMENTAL PROTECTION AGENCY

40 CFR Part 180

[EPA-HQ-OPP-2015-0032; FRL-9921-94]

Receipt of Several Pesticide Petitions Filed for Residues of Pesticide Chemicals in or on Various Commodities

AGENCY: Environmental Protection Agency (EPA).

ACTION: Notice of filing of petitions and request for comment.

SUMMARY: This document announces the Agency's receipt of several initial filings of pesticide petitions requesting the establishment or modification of regulations for residues of pesticide chemicals in or on various commodities.

DATES: Comments must be received on or before March 13, 2015.

ADDRESSES: Submit your comments, identified by docket identification (ID) number and the pesticide petition number (PP) of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Susan Lewis, Registration Division (RD) (7505P), main telephone number: (703) 305-7090; email address: RDFRNotices@epa.gov. The mailing address for each contact person is: Office of Pesticide Programs, Environmental Protection Agency, 1200 Pennsylvania Ave. NW., Washington, DC 20460-0001. As part of the mailing address, include the contact person's name, division, and mail code. The division to contact is listed at the end of each pesticide petition summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed under FOR FURTHER INFORMATION CONTACT for the division listed at the end of the pesticide petition summary of interest.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the agency taking?

EPA is announcing its receipt of several pesticide petitions filed under section 408 of the Federal Food, Drug, and Cosmetic Act (FFDCA), 21 U.S.C. 346a, requesting the establishment or modification of regulations in 40 CFR part 180 for residues of pesticide chemicals in or on various food commodities. The Agency is taking public comment on the requests before responding to the petitioners. EPA is not proposing any particular action at this time. EPA has determined that the pesticide petitions described in this document contain the data or information prescribed in FFDCA section 408(d)(2), 21 U.S.C. 346a(d)(2); however, EPA has not fully evaluated the sufficiency of the submitted data at this time or whether the data support granting of the pesticide petitions. After considering the public comments, EPA intends to evaluate whether and what action may be warranted. Additional data may be needed before EPA can make a final determination on these pesticide petitions.

Pursuant to 40 CFR 180.7(f), a summary of each of the petitions that are the subject of this document, prepared by the petitioner, is included in a docket EPA has created for each rulemaking. The docket for each of the petitions is available at http://www.regulations.gov.

As specified in FFDCA section 408(d)(3), 21 U.S.C. 346a(d)(3), EPA is publishing notice of the petition so that the public has an opportunity to comment on this request for the establishment or modification of regulations for residues of pesticides in or on food commodities. Further information on the petition may be obtained through the petition summary referenced in this unit.

New Tolerances

1. PP 2E8098 (EPA-HQ-OPP-2014-0355). Syngenta Crop Protection, LLC, P.O. Box 18300, Greensboro, NC 27419, requests to establish an import tolerance in 40 CFR part 180 for residues of the new active ingredient herbicide, bicyclopyrone: 4-hydroxy-3-[2-[(2-methoxyethoxy) methyl]-6-(trifluoromethyl)-3-pyridylcarbonyl] bicyclo [3.2.1]oct-3-en-2-one.], in or on sugarcane, stalks at 0.01 parts per million (ppm). The Direct Analysis and Common Moiety Methods were used to measure and evaluate the chemical bicyclopyrone. Contact: RD.

2. PP 4F8269 (EPA-HQ-OPP-2014-0840). Syngenta Crop Protection, LLC, P.O. Box 18300, Greensboro, North Carolina, 27419-8300, requests to establish tolerances in 40 CFR 180.561 for residues of the fungicide, acibenzolar-s-methyl, in or on pome fruit, crop group 11-10 at 0.03 ppm; and citrus fruit, crop group 10-10 at 0.01 ppm. The analytical method AG-671A is a validated method for the determination and confirmation of acibenzolar-s-methyl in raw agricultural commodities and processing substrates at a limit of quantitation of 0.02 ppm. The method involves extraction, solid phase cleanup of samples with analysis by high performance liquid chromatography with ultraviolet detection, or confirmatory liquid chromatography with mass spectrometry. Contact: RD.

3. PP 4F8288 (EPA-HQ-OPP- 2014-0709). Bayer CropScience LP, 2 T.W. Alexander Drive, RTP, NC 27709, requests to establish tolerances in 40 CFR 180.555 for residues of the fungicide, trifloxystrobin, in or on leafy greens, subgroup 4A at 30 ppm; herb, subgroup 19A at 200 ppm; spice, subgroup 19B, except black pepper at 30 ppm; head and stem Brassica, subgroup 5A at 2 ppm; leafy Brassica greens, subgroup 5B at 30 ppm; tuberous and corm vegetables, subgroup 1C at 0.04 ppm; small fruit vine climbing (except fuzzy kiwifruit), subgroup 13-07F at 2.0 ppm; and low growing berry, subgroup 13-07G at 1.5 ppm. The gas chromatography method with nitrogen phosphorus detection (GC/NPD), Method AG-659A is used to measure and evaluate the chemicals trifloxystrobin and its metabolite CGA-321113. Contact: RD.

4. PP 4E8297 (EPA-HQ-OPP-2014-0574). Interregional Research Project Number 4 (IR-4), IR-4 Project Headquarters, Rutgers, The State University of New Jersey, Suite 201 W, 500 College Road East, Princeton, NJ 08540, requests to establish tolerances in 40 CFR 180.479 for residues of the herbicide, halosulfuron-methyl, methyl 5-[(4,6-dimethoxy-2-pyrimidiny)amino] carbonylaminosulfonyl]-3-chloro-1-methyl-1H-pyrazole-4-carboxylate, including its metabolites and degradates, in or on the raw agricultural commodities: Fruit, pome group 11-10 at 0.05 ppm, and a tolerance with regional restrictions for fruit, small vine climbing, except fuzzy kiwifruit, subgroup 13-07F at 0.05 ppm. The analytical method, gas chromatography with a nitrogen-specific detector, is available for enforcement purposes. Contact: RD.

5. PP 4F8305 (EPA-HQ-OPP-2014-0640). BASF Corporation, 26 Davis Drive, P.O. Box 13528, Research Triangle Park, NC 27709-3528, requests to establish a tolerance in 40 CFR part 180.649 for residues of the herbicide, saflufenacil (2-chloro-5-[3,6-dihydro-3-methyl-2,6-dioxo-4-(trifluoromethyl)-1(2H)-pyrimidinyl]-4-fluoro-N-[[methyl(1-methylethyl)amino]sulfonyl]benzamide) and its metabolites, N-[2-chloro-5-(2,6-dioxo-4-(trifluoromethyl)-3,6-dihydro-1(2H)-pyrimidinyl)-4-fluorobenzoyl]-N'-isopropylsulfamide and N-[4-chloro-2-fluoro-5-([[(isopropylamino)sulfonyl]amino]carbonyl)phenyl]urea, calculated as the stoichiometric equivalent of saflufenacil, in or on pomegranate at 0.03 ppm. Adequate enforcement methodology, LC/MS/MS method D0603/02, is available to enforce the tolerance expression. Contact: RD.

6. PP 4E8306 (EPA-HQ-OPP-2014-0672). IR-4, IR-4 Project Headquarters, Rutgers, The State University of New Jersey, 500 College Road East, Suite 201 W, Princeton, NJ 08540 requests the following: (1) To establish tolerances in 40 CFR 180.377 for the combined residues of the insecticide, diflubenzuron (N-[[(4-chlorophenyl)amino]carbonyl]-2,6-difluorobenzamide) and its metabolites 4-chlorophenlyurea and 4-chloroaniline, in or on the raw agricultural commodities carrot, roots at 0.2 ppm; peach subgroup 12-12B at 0.5 ppm; plum subgroup 12-12C at 0.5 ppm; plum, prune, dried at 0.5 ppm; nut, tree, group 14-12 at 0.2 ppm; pepper/eggplant subgroup 8-10 B at 1.0 ppm, and cottonseed subgroup 20C at 0.2 ppm. Upon the approval of these tolerances, to remove established tolerances in or on fruit, stone, group 12, except cherry at 0.07 ppm; nut, tree, group 14 at 0.06 ppm; pistachio at 0.06 ppm; pepper at 1.0 ppm; and cotton, undelinted seed at 0.2 ppm. (2) to establish a regional tolerance for the combined residues of diflubenzuron and its metabolites 4-chlorophenlyurea and 4-chloroaniline in or on the raw agricultural commodities alfalfa, forage at 6 ppm; alfalfa, hay at 20 ppm; and alfalfa, seed at 0.9 ppm. Adequate enforcement analytical methods for determining diflubenzuron and its metabolites in/on appropriate raw agricultural commodities and processed commodities are available for the established and proposed tolerances. Contact: RD.

7. PP 4E8309 (EPA-HQ-OPP-2013-0428). IR-4, IR-4 Project Headquarters, Rutgers, The State University of New Jersey, 500 College Road East, Suite 201 W, Princeton, NJ 08540, requests to establish tolerances in 40 CFR 180.449 for residues of the insecticide, abamectin, including its metabolites and degradates, determined by measuring only avermectin B1 a mixture of avermectins containing greater than or equal to 80% avermectin B1 a (5-O-demethyl avermectin A1) and less than or equal to 20% avermectin B1b (5-O-demethyl-25-de(1-methylpropyl)-25-(1-methylethyl) avermectin A1) and its delta-8,9-isomer, in or on the raw agricultural commodities: Fruit, stone, group 12-12 at 0.09 ppm, fruit, small, vine climbing, except fuzzy kiwifruit, subgroup 13-07F at 0.02 ppm, nut, tree, group 14-12 at 0.01 ppm, vegetable, fruiting, group 8-10 at 0.07 ppm, fruit, citrus, group 10-10 at 0.02 ppm, berry, low growing, subgroup 13-07G at 0.05 ppm, fruit, pome, group 11-10 at 0.02 ppm, papaya at 0.40 ppm, star apple at 0.40 ppm, black sapote at 0.40 ppm, sapodilla at 0.40 ppm, canistel at 0.40 ppm, mamey sapote at 0.40 ppm, guava at 0.015 ppm, feijoa at 0.015 ppm, jaboticaba at 0.015 ppm, wax jambu at 0.015 ppm, starfruit at 0.015 ppm, passionfruit at 0.015 ppm, acerola at 0.015 ppm, lychee 0.01 ppm, longan at 0.01 ppm, Spanish lime at 0.01 ppm, rambutan at 0.01 ppm, pulasan at 0.01 ppm, pineapple at 0.015 ppm, bean at 0.015 ppm, and onion, green, subgroup 3-07B at 0.08 ppm. Upon the approval of the aforementioned tolerances, IR-4 proposes to remove established tolerances of abamectin, including its metabolites and degradates, in or on the following commodities: Bean, dry, seed at 0.01 ppm, citrus at 0.02 ppm, apple at 0.02 ppm, pear at 0.02 ppm, fruit, stone, group 12 at 0.09 ppm, nut, tree, group 14 at 0.01 ppm, pistachio at 0.01 ppm, grape at 0.02 ppm, strawberry at 0.05 ppm and vegetable, fruiting, group 8 at 0.02 ppm. The analytical methods involve homogenization, filtration, partition, and cleanup with analysis by high performance liquid chromatography (HPLC)-fluorescence detection. Contact: RD.

8. PP 4E8310 (EPA-HQ-OPP-2014-0769). IR-4, IR-4 Project Headquarters, Rutgers, The State University of New Jersey, 500 College Road East, Suite 201 W, Princeton, NJ 08540, requests to establish a tolerance in 40 CFR part 180.155 for residues of the plant growth regulator, 1-naphthaleneacetic acid, including its metabolites and degradates, determined by measuring only 1-naphthaleneacetic acid and its conjugates, calculated as the stoichiometric equivalent of 1-naphthaleneacetic acid, in or on the raw agricultural commodity pomegranate at 0.05 ppm. The analytical method involves extraction of residues in pomegranate including 1-napthaleneacetic acid, 1-napthaleneacetamide, and 1-napthaleneacetic acid, ethyl ester that are then converted to the parent, 1-napthaleneacetic acid. The analyte concentration is determined by high performance liquid chromatography (HPLC) using fluorescence detection. Contact: RD.

9. PP 4E8312 (EPA-HQ-OPP-2014-0749). IR-4, IR-4 Project Headquarters, Rutgers, The State University of New Jersey, 500 College Road East, Suite 201 W, Princeton, NJ 08540 requests to establish tolerances in 40 CFR 180.446 for residues of the acaricide, clofentezine, in or on the raw agricultural commodities avocado at 0.3 ppm; papaya at 0.3 ppm; fruit, pome, group 11-10 at 0.5 ppm; cherry, subgroup 12-12A at 1.0 ppm; peach, subgroup 12-12B at 1.0 ppm; and fruit, small, vine climbing, except fuzzy kiwifruit, subgroup 13-07F at 1.0 ppm. Upon the approval of the aforementioned tolerances, IR-4 proposes that the existing tolerances for apple at 0.5 ppm; pear at 0.5 ppm; cherry at 1.0 ppm; nectarine at 1.0 ppm; peach at 1.0 ppm; and grape at 1.0 ppm be removed as unnecessary. An adequate method for purposes of enforcement of the proposed clofentezine tolerance is available. An independent method validation was successfully completed, and the method was found acceptable. An extensive database of method validation data using this method on various crop commodities is available. The limit of quantitation (LOQ) and minimum detection limit (MDL) were determined to be 0.01 ppm and 0.003 ppm, respectively. Contact: RD.

10. PP 4F8315 (EPA-HQ-OPP-2014-0804). Gowan Company, P.O. Box 5569, Yuma, AZ, 85366-5569, requests to establish tolerances in 40 CFR part 180.448 for residues of the insecticide, hexythiazox, in or on wheat, forage at 6.0 parts per million (ppm); wheat, hay at 30 ppm; wheat, grain at 0.02 ppm; and wheat, straw at 8.0 ppm. High performance liquid chromatography (HPLC) method using mass spectrometric detection (LC-MS/MS) is proposed for enforcement purposes. Contact: RD.

11. PP 4E8321 (EPA-HQ-OPP-2014-0788). IR-4, IR-4 Project Headquarters, Rutgers, The State University of New Jersey, 500 College Road East, Suite 201 W, Princeton, NJ 08540, requests to establish tolerances in 40 CFR 180.434 for residues of the fungicide, propiconazole, 1-[[2-(2,4-dichlorophenyl)-4-propyl-1,3-dioxolan-2-yl] methyl]-1H-1,2,4-triazole and its metabolites determined as 2,4,-dichlorobenzoic acid (2,4-DCBA), expressed as the stoichiometric equivalent of propiconazole, in or on the raw agricultural commodities: Dill, fresh at 30 ppm; dill, dried at 80 ppm; dill, seed at 15 ppm; leafy Brassica greens, subgroup 5B at 20 ppm; radish, tops at 0.2 ppm; radish, roots at 0.04 ppm; Ti palm, leaves at 10 ppm; Ti palm, roots at 0.3 ppm, watercress at 6 ppm, fruit, stone, group 12-12, except plum at 4 ppm and nut, tree, group 14-12 at 0.1 ppm. Analytical methods AG-626 and AG-454A were developed for the determination of residues of propiconazole and its metabolites containing the DCBA moiety. Analytical method AG-626 has been accepted and published by EPA as the tolerance enforcement method for crops. The limit of quantitation (LOQ) for the method is 0.05 ppm. Contact: RD.

Amended Tolerances

1. PP 3F8209 (EPA-HQ-OPP-2014-0149). Syngenta Crop Protection, LLC, P.O. Box 18300, Greensboro, North Carolina, 27419-8300, requests to increase the tolerances in 40 CFR part 180.475 for residues of the fungicide, difenoconazole, in or on fruit, pome, group 11-10 from 1 ppm to 3 ppm, and for apple, wet pomace from 4.5 ppm to 7.5 ppm. An adequate enforcement method, GC/NPD method AG-575B, is available for the determination of residues of difenoconazole per se in/on plant commodities. An adequate enforcement method, LC/MS/MS method REM 147.07b, is available for the determination of residues of difenoconazole and CGA-205375 in livestock commodities. Contact: RD.

2. PP 4F8288 (EPA-HQ-OPP- 2014-0709). Bayer CropScience LP, 2 T.W. Alexander Drive, RTP, NC 27709, requests to amend the tolerance in 40 CFR 180.555 for residues of the fungicide, trifloxystrobin, in or on leafy petioles, group 4B from 3.5 to 9 ppm. The gas chromatography method with nitrogen phosphorus detection (GC/NPD), method AG-659A is used to measure and evaluate the chemicals trifloxystrobin and its metabolite CGA-321113. Contact: RD.

3. PP 4E8306 (EPA-HQ-OPP-2014-0672). IR-4, IR-4 Project Headquarters, Rutgers, The State University of New Jersey, 500 College Road East, Suite 201 W, Princeton, NJ 08540, requests that the existing tolerances in 40 CFR 180.377 for the insecticide, diflubenzuron, in or on the following raw agricultural commodities be modified: Egg from 0.05 to 0.15 ppm; poultry, fat from 0.05 to 0.15 ppm; and poultry, meat byproducts from 0.05 to 0.06 ppm. Adequate enforcement analytical methods for determining diflubenzuron and its metabolites, 4-chlorophenlyurea and 4-chloroaniline in/on appropriate raw agricultural commodities and processed commodities are available for the established and proposed tolerances. Contact: RD.

4. PP 4E8307 (EPA-HQ-OPP-2014-0740). IR-4, IR-4 Project Headquarters, Rutgers, The State University of New Jersey, 500 College Road East, Suite 201 W, Princeton, NJ 08450, requests that the existing tolerances with regional restrictions in 40 CFR part 180.578(c) for residues of the insecticide, acetamiprid (1E)-N-[(6-chloro-3-pyridinyl)methyl]-N'-cyano-N-methylethanimidamide, including its metabolites and degradates, in or on the following raw agricultural commodities be modified: Clover, forage from 0.10 ppm to 0.3 ppm, and clover, hay from 0.01 ppm to 1.5 ppm. The analytical method involves extraction of acetamiprid from crop matrices and analysis by liquid chromatography (LC)/mass spectroscopy (MS)/methods. Contact: RD.

New Tolerance Exemption

IN-10754 (EPA-HQ-OPP-2014-0677). Evonik Corporation, 299 Jefferson Rd., Parsippany, NJ 07054, requests to establish an exemption from the requirement of a tolerance for residues for 2-propenoic acid, 2-methyl-, 2-methylpropyl ester, homopolymer (CAS No 9011-15-8) with a minimum number average molecular weight (in amu) of 55,000, when used as a pesticide inert ingredient in pesticide formulations under 40 CFR 180.960. The petitioner believes no analytical method is needed because it is not relevant based upon the definition of a low risk polymer under 40 CFR 723.250. Contact: RD.

Authority: 21 U.S.C. 346a.

Dated: January 30, 2015.
Susan Lewis,
Director, Registration Division, Office of Pesticide Programs.

[FR Doc. 2015-02611 Filed 2-10-15; 8:45 am]

BILLING CODE 6560-50-P